DEPARTMENT OF VETERANS AFFAIRS

[OMB Control No. 2900-New (21-0847)]

Agency Information Collection (Authorization To Substitute a Claim of a Deceased Claimant) Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration, Department of Veterans Affairs, will submit the collection of information abstracted below to the Office of Management and Budget (OMB) for review and comment. The PRA submission describes the nature of the information collection and its expected cost and burden; it includes the actual data collection instrument.

DATES: Comments must be submitted on or before September 25, 2009.

ADDRESSES: Submit written comments on the collection of information through http://www.Regulations.gov or to VA's OMB Desk Officer, Office of Information and Regulatory Affairs, New Executive Office Building, Room 10235, Washington, DC 20503, (202) 395-7316. Please refer to “OMB Control No. 2900-New (21-0847)” in any correspondence.

FOR FURTHER INFORMATION CONTACT: Denise McLamb, Enterprise Records Service (005R1B), Department of Veterans Affairs, 810 Vermont Avenue, NW., Washington, DC 20420, (202) 461-7485, FAX (202) 273-0443 or e-mail denise.mclamb@va.gov. Please refer to “OMB Control No. 2900-New (21-0847).”

SUPPLEMENTARY INFORMATION: Title: Authorization to Substitute a Claim of a Deceased Claimant, VA Form 21-0847.

OMB Control Number: 2900—New (21-0847).

Type of Review: New collection.

Abstract: VA Form 21-0847 will be used to allow beneficiaries to request authorization to be substituted for a claimant, who passed away, while a claim or appeal for benefits is pending. The substituted beneficiary must file a claim no later than one year after the claimant's date of the death to be eligible to receive accrued benefits due to the deceased claimant.

An agency may not conduct or sponsor, and a person is not required to respond to a collection of information unless it displays a currently valid OMB control number. The Federal Register Notice with a 60-day comment period soliciting comments on this collection of information was published on June 12, 2009, at pages 28105-28106.

Affected Public: Individuals or households.

Estimated Annual Burden: 1,667.

Estimated Average Burden per Respondent: 5 minutes.

Frequency of Response: On time.

Estimated Number of Respondents: 20,000.

Dated: August 20, 2009.
By direction of the Secretary.
Denise McLamb,
Program Analyst, Enterprise Records Service.

[FR Doc. E9-20498 Filed 8-25-09; 8:45 am]

BILLING CODE 8320-01-P